ENVIRONMENTAL PROTECTION AGENCY

40 CFR Parts 52 and 81

[Docket ID No. R10-OAR-2005-WA-0001; FRL-7929-7]

Approval and Promulgation of State Implementation Plans: Washington; Spokane Carbon Monoxide Nonattainment Area; Designation of Areas for Air Quality Planning Purposes

AGENCY: Environmental Protection Agency (EPA).

ACTION: Direct final rule.

SUMMARY: On November 29, 2004, the State of Washington submitted a carbon monoxide (CO) maintenance plan for the Spokane serious nonattainment area to EPA for approval. The State concurrently requested that EPA redesignate the Spokane CO serious nonattainment area to attainment for the National Ambient Air Quality Standard (NAAQS) for CO. In this action, EPA is approving the maintenance plan and redesignating the Spokane serious CO nonattainment area to attainment.

DATES: This direct final rule will be effective on August 29, 2005, without further notice, unless EPA receives comments by July 29, 2005. If comments are received, EPA will publish a timely withdrawal of the direct final rule in the Federal Register informing the public that the rule will not take effect.

ADDRESSES: You may submit comments, identified by Docket ID No. R10-OAR-WA-2005-0001, by one of the following methods:

• Federal eRulemaking Portal: http://www.regulations.gov. Follow the on-line instructions for submitting comments.

• Agency Web site: http://www.epa.gov/edocket. EDOCKET, EPA's electronic public docket and comment system, is EPA's preferred method for receiving comments. Follow the on-line instructions for submitting comments.

• Fax: (206)-553-0110.

• Mail: Office of Air, Waste, and Toxics (AWT-107), U.S. EPA Region 10, 1200 Sixth Ave., Seattle, Washington 98101-1128.

• Hand Delivery/Courier: EPA Region 10, Service Center, 14th Floor, 1200 Sixth Ave., Seattle, Washington 98101; Attention: Connie Robinson, Office of Air, Waste and Toxics (AWT-107). Such deliveries are only accepted during normal hours of operation, and special arrangements should be made for deliveries of boxed information.

Instructions: Direct your comments to Docket ID No. R10-OAR-2005-WA-0001. EPA's policy is that all comments received will be included in the public docket without change, including any personal information provided, unless the comment includes information claimed to be Confidential Business Information (CBI) or other information whose disclosure is restricted by statute. Do not submit information that you consider to be CBI or otherwise protected through EDOCKET, regulations.gov, or e-mail. The EPA EDOCKET and the federal regulations.gov Web sites are “anonymous access” systems, which means EPA will not know your identity or contact information unless you provide it in the body of your comment. If you send an e-mail comment directly to EPA without going through regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit EDOCKET on-line or see the Federal Register of May 31, 2002 (67 FR 38102). For additional instructions on submitting comments, go to I. General Information of the SUPPLEMENTARY INFORMATION section of this document.

Docket: All documents in the docket are listed in the EDOCKET index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hard copy at the Office of Air, Waste, and Toxics (AWT-107), U. S. EPA Region 10, 1200 Sixth Ave., Seattle, Washington 98101; open from 8 a.m.-4:30 p.m. Monday through Friday, excluding legal holidays. The telephone number is (206) 553-4273. Copies of the submittal, and other information relevant to this proposal are also available for public inspection during normal business hours at the Washington State Department of Ecology, 300 Desmond Drive SE, Lacey, Washington 98503.

FOR FURTHER INFORMATION CONTACT: Connie L. Robinson, Office of Air, Waste and Toxics (AWT-107), EPA Region 10, 1200 Sixth Avenue, Seattle WA 98101-1128, telephone number: (206) 553-1086; fax number: 206-553-0110; or e-mail address: robinson.connie@epa.gov.

SUPPLEMENTARY INFORMATION: Throughout this document, wherever “we,” “us,” or “our” is used, we mean the EPA. Information is organized as follows:

I. General Information

II. What Action is EPA taking?

III. What is the background for this Action?

IV. What Evaluation Criteria were used for the Maintenance Plan and Redesignation Request Review?

V. EPA's Evaluation of the Spokane Maintenance Plan and Redesignation Request

A. How does the State Show that the Area Has Attained the CO NAAQS?

B. Does the Area have a fully approved SIP and has the area met all the relevant requirements under section110 and part D of the Clean Air Act?

C. Are the Improvements in Air Quality Permanent and Enforceable?

D. Has the State Submitted a Fully Approved Maintenance Plan pursuant to section 175A of the Clean Air Act?

E. Did the State provide adequate base year and maintenance year emissions inventories?

Table 1 Spokane 2002 Attainment/Base Year Actual Emissions, and 2010 and 2015 Projected Emissions (Tons CO/Winter Day)

F. How will the State continue to verify attainment?

G. What contingency measures does the State provide?

H. How will the State provide for subsequent maintenance plan revisions?

I. Is the Motor Vehicle Emission Budget Approvable as Required by Section 176(c)(2)(A) of the Clean Air Act and Outlined in the Conformity Rules, 40 CFR 93.118(e)(4)?

Table 2 Spokane Emissions Budget (Tons CO/Winter Day)

VI. Final Action

VII. Statutory and Executive Order Reviews

I. General Information

What Should I Consider as I Prepare My Comments for EPA?

A. Submitting Confidential Business Information (CBI). Do not submit this information to EPA through EDOCKET, regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

B. Tips for Preparing Your Comments. When submitting comments, remember to:

i. Identify the rulemaking by docket ID number and other identifying information (subject heading, Federal Register date and page number).

ii. Follow directions—The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns, and suggest alternatives.

vii. Explain your views as clearly as possible, avoiding the use of profanity or personal threats.

viii. Make sure to submit your comments by the comment period deadline identified.

II. What Action Is EPA Taking?

EPA is approving the Spokane CO maintenance plan and redesignating the Spokane Nonattainment Area from nonattainment to attainment for CO as requested by the State of Washington on November 29, 2004. The maintenance plan demonstrates that Spokane will be able to remain in attainment for the next 10 years. The Spokane, Washington CO nonattainment area is eligible for redesignation to attainment because air quality data shows that it has not recorded a violation of the primary or secondary CO air quality standards since 1996.

III. What Is the Background for This Action?

Areas meeting the requirements of section 107(d) of the Clean Air Act (the Act) were designated nonattainment for CO by operation of law. Under section 186(a) of the Act, each CO nonattainment area was also classified by operation of law as either moderate or serious depending on the severity of the area's air quality problems. Spokane was classified as a moderate CO nonattainment area. Moderate CO nonattainment areas were expected to attain the CO NAAQS as expeditiously as practicable but no later than December 31, 1995. If a moderate CO nonattainment area was unable to attain the CO NAAQS by December 31, 1995, the area was reclassified as a serious CO nonattainment area by operation of law. Spokane was unable to meet the CO NAAQS by December 31, 1995, and was reclassified as a serious nonattainment area effective April 13, 1998.

EPA made a determination based on air quality data that the Spokane CO nonattainment area in Washington attained the NAAQS for CO as of December 31, 2000, effective September 21, 2001 (66 FR 44060, August 22, 2001).

On September 20, 2001, and November 22, 2004, the Washington Department of Ecology (Ecology) submitted the Spokane CO attainment plan as a revision to the Washington SIP. We reviewed and subsequently approved the plan effective June 13, 2005. (See 70 FR 24991, May 12, 2005.)

IV. What Evaluation Criteria Was Used for the Maintenance Plan and Redesignation Request Review?

Section 107(d)(3)(E) of the Act states that EPA can redesignate an area to attainment if the following conditions are met:

1. The State must attain the applicable NAAQS.

2. The area must have a fully approved SIP under section 110(k) of the Act and the area must meet all the relevant requirements under section 110 and part D of the Act.

3. The air quality improvement must be permanent and enforceable.

4. The area must have a fully approved maintenance plan pursuant to section 175A of the Act.

V. EPA's Evaluation of the Spokane Maintenance Plan and Redesignation Request

EPA has reviewed the State's maintenance plan and redesignation request. EPA believes the Ecology submittal meets the requirements of section 107(d)(3)(E). The following is a summary of EPA's evaluation and a description of how each of the above requirements is met.

A. How Does the State Show That the Area Has Attained the CO NAAQS?

To attain the CO NAAQS, an area must have complete quality-assured data showing no more than one exceedance of the standard per year at any monitoring site in the nonattainment area for at least two consecutive years. The redesignation of Spokane is based on air quality data that shows that the CO standard was not violated from 1997 through 2004, or since. These data were collected by Ecology in accordance with 40 CFR 50.8, and entered in the EPA Air Quality System database following EPA guidance on quality assurance and quality control. Since the Spokane, Washington area has complete quality-assured monitoring data showing attainment with no violations after 1996, the area has met the statutory criterion for attainment of the CO NAAQS. EPA has already found the Spokane area attained the NAAQS.

B. Does the Area Have a Fully Approved SIP and Has the Area Met All the Relevant Requirements Under Section 110 and Part D of the Clean Air Act?

Yes. Spokane was classified as a moderate nonattainment area upon enactment of the Clean Air Act in 1990. Spokane was unable to meet the CO NAAQS by December 31, 1995, and was reclassified a serious nonattainment area effective April 13, 1998. Therefore, the requirements applicable to the Spokane nonattainment area for inclusion in the Washington SIP included an attainment demonstration, 1996 base year emission inventory with periodic updates, low enhanced motor vehicle inspection/maintenance (I/M) program, oxygenated gasoline program, contingency measures, conformity procedures, and a permit program for new or modified major stationary sources. EPA has previously approved all of these required elements into the Washington SIP (70 FR 24991, May 12, 2005).

C. Are the Improvements in Air Quality Permanent and Enforceable?

Yes. Emissions reductions were achieved through a number of permanent and enforceable control measures including the Federal Motor Vehicle Control Program establishing emission standards for new motor vehicles; a low enhanced I/M program; an Oxygenated Gasoline Program; a Washington Wood Stove Curtailment Program; and Transportation Control Measures.

Ecology has demonstrated that permanent and enforceable emission reductions are responsible for the air quality improvement and that the CO emissions in the base year are not artificially low due to a local economic downturn or unusual or extreme weather patterns. We believe the combination of certain existing EPA-approved SIP and Federal measures result in permanent and enforceable reductions in ambient CO levels that have allowed the area to attain the NAAQS.

D. Has the State Submitted a Fully Approved Maintenance Plan Pursuant to Section 175A of the Clean Air Act?

Section 175A sets forth the elements of a maintenance plan for areas seeking redesignation from nonattainment to attainment. The plan must demonstrate continued attainment of the applicable NAAQS for at least ten years after the Administrator approves a redesignation to attainment. Probabilistic rollback modeling conducted by Spokane indicated that no additional emission reductions must be achieved to ensure attainment of the NAAQS for the maintenance period. Eight years after the redesignation, the State must submit a revised maintenance plan which demonstrates attainment for the ten years following the initial ten-year period. The maintenance plan must contain contingency measures to be implemented if future NAAQS violations occur. The Spokane CO maintenance plan meets the requirements of 175A.

E. Did the State Provide Adequate Base Year and Maintenance Year Emissions Inventories?

Yes. Ecology submitted comprehensive inventories of CO emissions from point, area and mobile sources using 2002 as the base year. Since air monitoring recorded attainment of CO in 2002, this is an acceptable year for the base year inventory. This data was then used in calculations to demonstrate that the CO standard will be maintained in future years. Ecology calculated inventories for 2010 and 2015. Future emission estimates are based on forecast assumptions of reductions due to control measures, growth of the regional economy, and vehicle miles traveled.

Mobile sources are the greatest source of CO. Although vehicle use is expected to increase in the future, more stringent Federal automobile standards and removal of older, less efficient cars over time will still result in an overall decline in CO emissions. The projections in the maintenance plan demonstrate that future emissions, assuming no oxygenated gasoline program, are not expected to exceed base year levels.

Total CO emissions were projected from the 2002 base year out to 2010 and 2015. These projected inventories were prepared according to EPA guidance. Because compliance with the 8-hour CO standard is linked to average daily emissions, emission estimates reflecting a typical winter season day (tons of CO per day) were used for the maintenance demonstration. The following table summarizes the 2002 base year actual emissions and the 2010 and 2015 projected emissions. The on-road mobile emissions were modeled for 2010 and 2015 using MOBILE6.2.

Table 1.—2002 Attainment/Base Year Actual Emissions, and 2010 and 2015 Projected Emissions

(Tons CO/Winter Day)
Year | Mobile | Area | Non-road | Point* | Total
2002 Base Year (Actuals) | 217 | 38.16 | 65.25 | 0.68 | 321
2010 (Projected) | 215 | 53.60 | 79.64 | 4.53 | 353
2015 (Projected) | 182 | 57.18 | 85.2 | 4.53 | 328
* Kaiser carbon plant did not operate in 2002; allowable emissions for Kaiser carbon plant included in projected years only.

F. How Will the State Continue To Verify Attainment?

In accordance with 40 CFR part 58 and EPA's Redesignation Guidance, Ecology has committed to continue monitoring in this area in accordance with 40 CFR part 58. Ecology will also conduct a comprehensive review of plan implementation and air quality status eight years after redesignation. The State will then submit a SIP revision that includes a full emissions inventory update and provides for the continued maintenance of the standard ten years beyond the initial ten-year period.

G. What Contingency Measures Does the State Provide?

Section 175A(d) of the CAA requires that a maintenance plan include contingency provisions. Spokane County Air Pollution Control Agency (SCAPCA) will drop the winter oxygenated fuels requirement for Spokane after redesignation. One of the contingencies in the maintenance plan is that SCAPCA will re-adopt this requirement if the CO standard is violated. In addition, violation of the standard will initiate a local process by SCAPCA, Spokane Regional Transportation Council (SRTC), Ecology and EPA to identify and evaluated potential contingency measures other than or in addition to the oxygenated fuels requirement. SCAPCA will initiate a subcommittee process in coordination with SRTC, Ecology, and EPA to begin evaluating potential contingency measures no more than 60 days after being notified by Ecology that a violation has occurred. The maintenance plan requires that the necessary contingency measures will be implemented within one year of the date of the CO NAAQS violation.

H. How Will The State Provide for Subsequent Maintenance Plan Revisions?

In accordance with section 175A(b) of the Act, the State has agreed to submit a revised maintenance SIP eight years after the area is redesignated to attainment. That revised SIP must provide for maintenance of the standard for an additional ten years. It will include a full emissions inventory update and projected emissions demonstrating continued attainment for ten additional years.

I. Is the Motor Vehicle Emission Budget Approvable as Required by Section 176(c)(2)(A) of the Clean Air Act and Outlined in the Conformity Rules, 40 CFR 93.118(e)(4)?

Yes. Section 176(c)(2)(A) of the Act requires regional transportation plans to be consistent with the motor vehicle emissions budget contained in the applicable air quality plan for the Spokane area. The 2002 motor vehicle emissions budget that is established for the Spokane first ten-year CO maintenance plan is 279 tons of CO.

The TSD summarizes how the CO motor vehicle emissions budget meets the criteria contained in the conformity rule.

VI. Final Action

EPA is approving the Spokane CO Maintenance Plan and redesignating the Spokane CO nonattainment area to attainment. This redesignation is based on validated monitoring data and projections made in the maintenance demonstration. EPA believes the area will continue to meet the NAAQS for CO for at least ten years beyond this redesignation, as required by the Act. Washington has demonstrated compliance with the requirements of section 107(d)(3)(E) based on information provided by Ecology and contained in the Washington SIP and Spokane, Washington CO maintenance plan. A Technical Support Document on file at the EPA Region 10 office contains a detailed analysis and rationale in support of the redesignation of Spokane's CO nonattainment area to attainment.

VII. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Act. This rule also is not subject to Executive Order 13045 “Protection of Children from Environmental Health Risks and Safety Risks” (62 FR 19885, April 23, 1997), because it is not economically significant.

In reviewing SIP submissions, EPA's role is to approve state choices, provided that they meet the criteria of the Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Act, petitions for judicial review of this action must be filed in the United States Court of Appeals for the appropriate circuit by August 29, 2005. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Carbon monoxide, Intergovernmental relations, Reporting and recordkeeping requirements.

40 CFR Part 81

Environmental protection, Air pollution control, National parks, Wilderness areas.

Dated: June 20, 2005.
Julie Hagensen,
Acting Regional Administrator, Region 10.

Parts 52 and 81, chapter I, title 40 of the Code of Federal Regulations are amended as follows:

PART 52—[AMENDED]

1. The authority citation for part 52 continues to read as follows:

Authority: 42 U.S.C. 7401 et seq.

Subpart WW—Washington

2. In § 52.2475, paragraph (a)(2)(ii) is revised to read as follows:

§ 52.2475 Approval of plans.

(a) * * *

(2) * * *

(ii) EPA approves as a revision to the Washington State Implementation Plan, the Spokane Carbon Monoxide Maintenance Plan, adopted April 27, 2004 effective June 24, 2004, submitted by the Washington Department of Ecology on November 29, 2004.

PART 81—[AMENDED]

1. The authority citation for part 81 continues to read as follows:

Authority: 42 U.S.C. 7401 et seq.

2. In § 81.348, the table entitled “Washington—Carbon Monoxide” is amended by revising the entry for “Spokane Area Spokane County (part)” to read as follows:

§ 81.348 Washington.

* * * * *

Washington—Carbon Monoxide
Designated Area | Designation: Date¹ | Designation: Type | Classification: Date¹ | Classification: Type
* * * * * * *
Spokane Area: | 8-29-2005 | Attainment
Spokane County (part)
Spokane urban area (as defined by The Washington Department of Transportation urban area maps)
* * * * * * *
¹ This date is November 15, 1990 unless otherwise noted.

* * * * *

[FR Doc. 05-12713 Filed 6-28-05; 8:45 am]

BILLING CODE 6560-50-P